DEPARTMENT OF DEFENSE

Office of the Secretary

[Docket ID: DOD-2012-OS-0001]

Privacy Act of 1974; System of Records; Correction

AGENCY: U.S. Strategic Command, DoD.

ACTION: Notice to add a system of records; correction.

SUMMARY: On January 13, 2012 (77 FR 2052-2053), DoD published a notice announcing its intent to add a new Privacy Act System of Records. The Categories of Records in the System paragraph was written incorrectly. This notice corrects that error.

FOR FURTHER INFORMATION CONTACT: USSTRATCOM/J060, 901 SAC Blvd., Ste 2A9, Offutt AFB, NE 68113-6000 or call by phone at (402) 294-4461.

SUPPLEMENTARY INFORMATION: On January 13, 2012, DoD published a notice announcing its intent to add a new system in its inventory of Privacy Act System of Records: FSTRATCOM 01, Command Data Records. Subsequent to the publication of that notice, DoD discovered that the Categories of Records in the System paragraph on pages 2052-2053 was written incorrectly.

Correction

In the notice (FR Doc. 2012-573) published on January 13, 2012 (77 FR 2052-2053), make the following correction. On page 2052, in the third column, replace the Categories of Records in the System paragraph with “Individuals name, address, status (DoD or Non-DoD), type (military or civilian), service, rank, date of rank, duty title, work address, phone number and email address, food preference/dietary comments, group affiliation (within same database), spouse information, home address (if work address not available), home phone (if work phone not available), home email (if work email not available).”

Dated: January 13, 2012.
Aaron Siegel,
Alternate OSD Federal Register Liaison Officer, Department of Defense.

[FR Doc. 2012-1000 Filed 1-18-12; 8:45 am]

BILLING CODE 5001-06-P